DEPARTMENT OF TRANSPORTATION

Federal Highway Administration

Environmental Impact Statement: Los Angeles County, California

AGENCY: Federal Highway Administration (FHWA), DOT.

ACTION: Notice of Intent.

SUMMARY: The FHWA, on behalf of the California Department of Transportation (Caltrans), is issuing this notice to advise the public that an Environmental Impact Statement will be prepared for a proposed highway project in Los Angeles County, California.

DATES: Public Scoping meetings will be held in early part of 2014.

FOR FURTHER INFORMATION CONTACT: Tami Podesta, California Department of Transportation (Caltrans), 100 S. Main Street, Los Angeles, CA 90012, telephone (213) 897-0309 and tami_podesta@dot.ca.gov.

SUPPLEMENTARY INFORMATION: Effective July 1, 2007, the Federal Highway Administration (FHWA) assigned, and the California Department of Transportation (Caltrans) assumed, environmental responsibilities fOr this project pursuant to 23 U.S.C. 327. Caltrans as the assigned National Environmental Policy Act (NEPA) agency will prepare an Environmental Impact Statement on a proposal for State Route 138 (SR-138) Northwest Corridor Improvement project in Los Angeles County, California. This project is located in northern Los Angeles County, three miles south of the Kern County Line and passing within one-half mile of the northernmost limits of the City of Lancaster. The project extends from Interstate 5 (1-5) on the west to State Route 14 (SR-14) on the east, a distance of approximately 36 miles. It is currently a two-lane rural highway with no access control. SR-138 Northwest Corridor Improvement Project proposes to improve the highway as a freeway, expressway with access control and/or traffic system/multi-modal facility. The SR-138 currently supports the regional transportation needs of the local community, and serves as an alternate route for east-west traffic in northern Los Angeles County.

Four alternatives are identified for the project corridor. Alternative 1 is an expressway facility throughout the entire corridor. Alternative 2 is a freeway/expressway facility throughout the entire corridor. Alternative 3 is a traffic system/multi-modal facility throughout the entire corridor. Alternative 4 is the No-Build Alternative.

These alternatives may be refined, combined with various different alternatives, or be removed from further consideration, as more analysis is conducted on the project alternatives. Analysis supporting the EIS will determine the type of facility necessary to meet the existing and future transportation needs in the corridor. Section 404 Permit may be required from U.S. Army Corp of Engineers under the Clean Water Act. In addition, Caltrans will coordinate with U. S. Fish and Wildlife Service under Section 7 of the Federal Endangered Species Act and request and receive species lists, prepare the biological assessment, and conduct the formal consultation.

Letters describing the proposed action and soliciting comments will be sent to appropriate Federal, State, Participating Agencies, local agencies, and to private organizations and citizens who have previously expressed or are known to have interest in this proposal. Public Scoping meetings will be held in the early part of 2014. The public outreach/information program will continue throughout the environmental document phase for the proposed project. In addition, a public hearing will be held. Public notice will be given of the time and place of the hearing. The Draft Environmental Impact Statement will be available for public and agency review and comment prior to the public hearing. To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Matt Schmitz,
Director, Project Delivery, Federal Highway Administration, Sacramento, California.

[FR Doc. 2013-26948 Filed 11-12-13; 8:45 am]

BILLING CODE 4910-22-M